COMMITTEE FOR PURCHASE FROM PEOPLE WHO ARE BLIND OR SEVERELY DISABLED

Procurement List; Additions and Deletion

AGENCY: Committee for Purchase From People Who Are Blind or Severely Disabled.

ACTION: Additions to and deletion from the Procurement List.

SUMMARY: This action adds services to the Procurement List that will be provided by nonprofit agencies employing persons who are blind or have other severe disabilities, and deletes a product from the Procurement List previously furnished by such agency.

DATES: Effective Date: 2/28/2011.

ADDRESSES: Committee for Purchase From People Who Are Blind or Severely Disabled, Jefferson Plaza 2, Suite 10800, 1421 Jefferson Davis Highway, Arlington, Virginia 22202-3259.

FOR FURTHER INFORMATION CONTACT: Barry S. Lineback, Telephone: (703) 603-7740, Fax: (703) 603-0655, or e-mail CMTEFedReg@AbilityOne.gov.

SUPPLEMENTARY INFORMATION:

Additions

On 11/26/2010 (75 FR 72815) and 12/3/2010 (75 FR 75461-75462), the Committee for Purchase From People Who Are Blind or Severely Disabled published notices of proposed additions to the Procurement List.

After consideration of the material presented to it concerning capability of qualified nonprofit agencies to provide the services and impact of the additions on the current or most recent contractors, the Committee has determined that the services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will provide the services to the Government.

2. The action will result in authorizing small entities to provide the services to the Government.

3. There are no known regulatory alternatives which would accomplish the objectives of the Javits-Wagner-O'Day Act (41 U.S.C. 46-48c) in connection with the services proposed for addition to the Procurement List.

End of Certification

Accordingly, the following services are added to the Procurement List:

Services

Service Type/Location: Custodial Service, TSA, Central Illinois Regional Airport, Airport Business Center, 2901 E Empire Street, Bloomington, IL.

NPA: United Cerebral Palsy of the Land of Lincoln, Springfield, IL.

Contracting Activity: GSA, Public Buildings Service, Property Management Division, Springfield, IL.

Service Type/Location: Mailroom Operation, IRS, 801 Tom Martin Drive, Birmingham, AL.

NPAs: ServiceSource, Inc., Alexandria, VA (Prime Contractor). Alabama Industries for the Blind, Talladega, AL (Subcontractor).

Contracting Activity: Dept of the Treasury, IRS/Contracts & Acquisition Division, Washington, DC.

Service Type/Location: Janitorial Service,

Bureau of Reclamation—Ephrata Field Office, 32 C Street, NW., Ephrata, WA.

NPA: Good Works, Inc., Spokane, WA.

Contracting Activity: Dept of the Interior, Bureau of Land Management, ID-Boise District Office, Boise, ID.

Service Type/Location: Military Environment Support, Program Executive Office for Simulation, Training and Instrumentation (PEO STRI), 12350 Research Parkway, Orlando, FL.

NPA: Able Forces, Inc, Front Royal, VA.

Contracting Activity: Dept Of The Army, XR W6EC PEO STRI Orlando, FL.

Service Type/Location: Base Supply Center, 2000 Wyoming Boulevard, Kirtland AFB, NM.

NPA: San Antonio Lighthouse for the Blind, San Antonio, TX.

Contracting Activity: Dept of the Air Force, FA9401 377 CONS CC, Kirtland AFB, NM.

Service Type/Location: Landscaping & Groundskeeping, FAA Potomac TRACON, 3699/3701 MacIntosh Drive, Warrenton, VA.

NPA: Portco, Inc., Portsmouth, VA.

Contracting Activity: Department of Transportation, Federal Aviation Administration, Jamaica, NY.

Deletion

On 12/3/2010 (75 FR 75461-75462), the Committee for Purchase From People Who Are Blind or Severely Disabled published notice of proposed deletion from the Procurement List.

After consideration of the relevant matter presented, the Committee has determined that the product listed below is no longer suitable for procurement by the Federal Government under 41 U.S.C. 46-48c and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product to the Government.

3. There are no known regulatory alternatives which would accomplish the objectives of the Javits-Wagner-O'Day Act (41 U.S.C. 46-48c) in connection with the product deleted from the Procurement List.

End of Certification

Accordingly, the following product is deleted from the Procurement List:

Product

Tape, Pocket Duct.

NSN: 5640-00-NIB-0005—2 in. x 5 YD.

NPA: Cincinnati Association for the Blind, Cincinnati, OH.

Contracting Activity: General Services Administration, New York, NY.

Barry S. Lineback,
Director, Business Operations.

[FR Doc. 2011-1887 Filed 1-27-11; 8:45 am]

BILLING CODE 6353-01-P